DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by January 9, 2004.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone (404) 679-4176; facsimile (404) 679-7081.

SUPPLEMENTARY INFORMATION: The public is invited to comment on the following applications for permits to conduct certain activities with endangered species. If you wish to comment, you may submit comments by any one of the following methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Mark D. Farr, Contractor for U.S. Army Corp of Engineers, Vicksburg District, Vicksburg, Mississippi, permit number TE079841-0.

The applicant requests authorization to take (handle and release) the Ouachita rock pocketbook (Arkansia wheeleri) while conducting presence/absence and population demography surveys and individual tagging/marking in the Little River from Millwood Lake Dam to the mouth; Sulphur River from Wright Petman Dam to the mouth; McKinney Bayou, Hudson Creek, Maniese Bayou, and Bois d'Arc Creek, Arkansas.

Applicant: Roel Lopez, College Station, Texas, permit number TE079849-0.

The applicant requests authorization to trap Lower Keys rabbits (Sylvilagus palustris hefneri) from source populations and translocate them to Little Pine and Water Keys. Four Lower Keys rabbits (2 males and 2 females) would be introduced to Water Key. Two Lower Keys rabbits would be translocated to Little Pine Key to supplement genetic diversity and to resist negative effects of demographic stochastisity (random events) on a small founder population. The proposed activities would take place in Boca Chica Key, Lower Sugarloaf Key, Saddlebunch Keys, Little Pine Key, and Water Keys, Monroe County, Florida.

Applicant: Michael Matthew Gangloff, Auburn University, Alabama, permit number TE079863-0.

The applicant requests to take (capture, examine, release, and collect relic shells) the fat threeridge (Amblema neislerii), Anthony's riversnail (Athearnia anthonyi), slender campeloma (Campeloma decampi), fanshell (Cyprogenia stegaria), dromedary pearlymussel (Dromus dromas), lacy elimia (Elimia crenatella), Chipola slabshell (Elliptio chipolaensis), purple bankclimber (Elliptoideus sloatianus), yellow blossom (Epioblasma florentina florentina), upland combshell (Epioblasma metastriata), catspaw (Epioblasma obliquata obliquata), southern acornshell (Epioblasma othcaloogensis), southern combshell (Epioblasma penita), tuberacled blossom (Epioblasma torulosa torulosa), turgid blossom (Epioblasma tugidula), shiny pigtoe (Fusconia cor), finerayed pigtoe (Fusconia cuneolis), cracking pearlymussel (Hemistena lata), pink mucket (Lampsilis abrupta), fine-lined pocketbook (Lampsilis altilis), shinyrayed pocketbook (Lampsilis subangulata), Alabama lampmussel (Lampsilis viresens), birdwing pearlymussel (Lemiox rimosus), round rocksnail (Leptoxis ampla), plicate rocksnail (Leptoxis plicata), painted rocksnail (Leptoxis taeniata), flat pebblesnail (Lepyrium showalteri), cylindrical lioplax (Lioplax cyclostomaformis), Alabama moccasinshell (Mediondus acutissimus), Coosa moccasinshell (Medionidus parvulus), gulf moccasinshell (Medionidus penicillatus), ring pink (Obovaria retusa), littlewing pearlymussel (Pegias fibula), white wartyback (Plethobasus cicatricosus), orangefoot pimpleback (Plethobasus copperianus), clubshell (Pleurobema clava), black clubshell (Pleurobema curtum), southern clubshell (Pleurobema decisum), dark pigtoe (Pleurobema furvum), southern pigtoe (Pleurobema georgianum), flat pigtoe (Pleurobema marshalli), ovate clubshell (Pleurobema perovatum), rough pigtoe (Pleurobema plenum), oval pigtoe (Pleurobema pyriforme), heavy pigtoe (Pleurobema taitianum), inflated heelsplitter (Potamilus inflatus), triangular kidneyshell (Ptychobranchus greeni), armored marstonia (Pyrgulopsis pachyta), winged mapleleaf (Quadrula fragosa), Cumberland monkeyface (Quadrula intermedia), stirrupshell (Quadrula stapes), pale lilliput (Toxolasma cylindrellus), tulotoma snail (Tulotoma magnifica), and Cumberland bean (Villosa trabalis) while conducting presence and absence surveys. The proposed activities would primarily occur in the rivers, lakes, and streams in the Mobile, Tennessee, and Appalachicola rivers, but also in other drainages within Alabama, Florida, Georgia, and Mississippi.

Applicant: Environmental Services, Inc., Steven M. Jones, Lithonia, Georgia, permit number TE078880-0.

The applicant requests authorization to take (capture, exam, photograph, temporarily hold, and release) the gray bat (Myotis grisescens) while conducting a presence/absence survey at a proposed development site in Bartow County, Georgia.

Applicant: Arkansas Highway and Transportation Department, Little Rock, Arkansas, permit number TE079883-0.

The applicant requests authorization to take (capture, exam, and release) the gray bat (Myotis grisescens), Indiana bat (Myotis sodalis), Louisiana black bear (Ursus americanus luteolus), Arkansas fatmucket (Lampsilis powellii), Curtis pearlymussel (Epioblasma florentina curtisii), fanshell (Cyprogenia stegaria), fat pocketbook (Potamilus capax), Ouachita rock-pocketbook (Arkansia wheeleri), pink mucket (Lampsilis abrupta), scaleshell (Leptodea leptodon), speckled pocketbook (Lampsilis streckeri), turgid-blossom (Epioblasma turgidula), winged mapleleaf (Quadrula fragosa), magazine mountain shagreen (Mesodon magazinensis), American burying beetle (Nicrophorus americanus), cave crayfish (Cambarus aculabrum), and cave crayfish (Cambarus zophonastes) while conducting presence/absence surveys. The proposed activities will take place throughout the State of Arkansas.

Applicant: Geological Survey of Alabama, Thomas E. Shepard, Tuscaloosa, Alabama, permit number TE079923-0.

The applicant requests authorization to take (capture and release) the boulder darter (Etheostoma wapiti), slackwater darter (Etheostoma boschungi), and snail darter (Percina tanasi) while conducting presence/absence surveys in the Elk River System, Alabama.

Applicant: Eric J. Baka, Louisiana Department of Wildlife and Fisheries, Baton Rouge, Louisiana, permit number TE079972-0.

The applicant requests authorization to take (capture, band, monitor nests, install drilled and insert cavities, translocate, release, and monitor) adult and nestling red-cockaded woodpeckers (Picoides borealis) while conducting presence and absence surveys, demographic monitoring and cavity restricting, and translocation activities. The proposed activities would take place in the State of Louisiana.

Applicant: Dr. Kathryn Stephenson Craven, Armstrong Atlantic State University, Savannah, Georgia, permit number TE079976-0.

The applicant requests authorization to take (excavate nests post hatching, mark nests with wooden stakes, open unhatched eggs, and collect dead hatchlings and embryos for classification or preservation for research and educational purposes) loggerhead, green, Kemp's Ridley, leatherback, and hawksbill sea turtles while evaluating nest hatch success, sampling of hatched eggs for bacteria/fungus, investigating nest-ant interactions, monitoring of the population for nesting adult sea turtles, and conducting necropsy on stranded sea turtles. The proposed activities would occur along the coastline of the State of Georgia.

Applicant: Mr. Donald Robohm, Sea Chick Mississippi Inc., Escatawpa, Mississippi, permit number TE080009-0.

The applicant requests authorization to take (harass, conduct research using non-lethal aversion techniques) the endangered brown pelican, Pelecanus occidentalis, at Sea Chick's facility in Jackson County, Mississippi, for the purpose of reducing fish predation at a commercial fish farming operation.

Dated: November 24, 2003.
J. Mitch King,
Deputy Regional Director.

[FR Doc. 03-30586 Filed 12-9-03; 8:45 am]

BILLING CODE 4310-55-P